DEPARTMENT OF ENERGY

Federal Energy Regulatory Commission

[Docket No. CP04-24-000]

Gulf South Pipeline Company, LP and Prism Gas Systems, Inc.; Notice of Application

December 10, 2003.

Take notice that on December 1, 2003, Gulf South Pipeline Company, LP (Gulf South) located at 20 East Greenway Plaza, Suite 900, Houston, Texas 77046 and Prism Gas Systems, Inc. (Prism) located at 2350 Airport Freeway, Suite 200, Bedford, Texas 76022, filed, in Docket No. CP04-24-000, an application pursuant to Section 7(b) of the Natural Gas Act (NGA), as amended, and Part 157 of the Commission regulations, for authorization to abandon certain Gulf South natural gas pipeline facilities (Panola County Facilities), located primarily in Panola and Harrison Counties, Texas, by sale to Prism and for authorization to abandon Gulf South's gathering and transportation services provided through such pipeline facilities. Gulf South and Prism also request that the Commission declare that the Panola County Facilities, once abandoned, will be gathering facilities and exempt from the Commission's regulation pursuant to Section 1(b) of the NGA, all as more fully set forth in the application which is on file with the Commission and open to public inspection. This filing is available for review at the Commission or may be viewed on the Commission's Web site at http://www.ferc.gov using the “e-Library” link. Enter the docket number excluding the last three digits in the docket number field to access the document. For assistance, please contact FERC Online Support at FERCOnlineSupport@ferc.gov or toll-free at (866) 208-3676, or for TTY, contact (202) 502-8659.

Any questions concerning this application may be directed to J. Kyle Stephens, Director of Certificates, Gulf South Pipeline Company, LP, 20 East Greenway Plaza, Houston, Texas, 77046, or: phone (713) 544-7309, fax (713) 544-4818, e-mail kyle.stephens@gulfsouthpl.com.

There are two ways to become involved in the Commission's review of this project. First, any person wishing to obtain legal status by becoming a party to the proceedings for this project should file with the Federal Energy Regulatory Commission, 888 First Street, NE., Washington, DC 20426, a motion to intervene in accordance with the requirements of the Commission's Rules of Practice and Procedure (18 CFR 385.214 or 385.211) and the Regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests, comments and interventions may be filed electronically via the Internet in lieu of paper; see 18 CFR 385.2001(a)(1)(iii) and the instructions on the Commission's Web site under the “e-Filing” link. The Commission strongly encourages electronic filings.

Comment Date: December 31, 2003.

Magalie R. Salas,
Secretary.

[FR Doc. E3-00570 Filed 12-16-03; 8:45 am]

BILLING CODE 6717-01-P